SMALL BUSINESS ADMINISTRATION

[Disaster Declaration #20718 and #20719; TENNESSEE Disaster Number TN-20017]

Presidential Declaration Amendment of a Major Disaster for the State of Tennessee

AGENCY: U.S. Small Business Administration.

ACTION: Amendment 2.

SUMMARY: This is an amendment of the Presidential declaration of a major disaster for the State of TENNESSEE (FEMA-4832-DR), dated October 2, 2024.

Incident: Tropical Storm Helene.

DATES: Issued on November 12, 2024.

Incident Period: September 26, 2024 through September 30, 2024.

Physical Loan Application Deadline Date: January 7, 2025.

Economic Injury (EIDL) Loan Application Deadline Date: July 2, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of TENNESSEE, dated October 2, 2024, is hereby amended to extend the deadline for filing applications for physical damages as a result of this disaster to January 7, 2025.

All other information in the original declaration remains unchanged.

(Catalog of Federal Domestic Assistance Number 59008)

Alejandro Contreras,
Acting Deputy Associate Administrator, Office of Disaster Recovery & Resilience.

[FR Doc. 2024-27285 Filed 11-20-24; 8:45 am]

BILLING CODE 8026-09-P